DEPARTMENT OF TRANSPORTATION

Federal Aviation Administration

14 CFR Parts 121 and 145

[AC 120-66C]

Advisory Circular for Aviation Safety Action Program (ASAP)

AGENCY: Federal Aviation Administration (FAA), Department of Transportation (DOT).

ACTION: Notice of availability of proposed revision to Advisory Circular for Aviation Safety Action Program (ASAP), request for comment.

SUMMARY: The Federal Aviation Administration (FAA) is announcing the availability of proposed Advisory Circular (AC) 120-66C. AC 120-66C provides guidance for establishing an air transportation Aviation Safety Action Program (ASAP).

DATES: Written comments must be received on or before November 4, 2014.

ADDRESSES: Send comments identified by AC 120-66C using any of the following methods:

• Aviation Safety Draft Document Open for Comment Web site: Go to http://www.faa.gov/aircraft/draft_docs/afs_ac/ and follow the online instructions for sending your comments electronically.

• Mail: Send comments to 1625 K Street NW., Suite 300, Washington, DC 20006.

• Fax: Fax comments to 202-223-4615. Attn: Laura L. Miller.

• Hand Delivery: Bring comments to 1625 K Street NW., Suite 300, Washington, DC between 9 a.m. and 5 p.m., Monday through Friday, except Federal holidays

FOR FURTHER INFORMATION CONTACT: Randy McDonald, Air Transportation Division, Flight Standards Service, Federal Aviation Administration, 800 Independence Avenue SW., Washington, DC 20591; telephone: 202-267-8166; facsimile: 202-267-5229; email: randy.mcdonald@faa.gov.

Background

The primary goal of this proposed AC revision is to clarify FAA policy, facilitate achievement of an ASAP's safety goals, and encourage wider participation in the program. The objective of an ASAP is to encourage employees of certificate holders or other operators to voluntarily report safety information that may be critical to identifying potential precursors to accidents. The FAA has determined that identifying these precursors is essential to further reducing the already low accident rate. The ASAP provides for the collection, analysis, and retention of the safety data that is obtained through the reporting process. ASAP participants use ASAP safety data, much of which would otherwise be unobtainable, to develop corrective actions for identified safety concerns, and to educate the appropriate parties to prevent a recurrence of the same type of safety event.

The agency will consider all comments received by November 4, 2014. Comments received after that date may be considered if consideration will not delay agency action on the review. A copy of the advisory circular is available for review at http://www.faa.gov/aircraft/draft_docs/afs_ac/.

Issued in Washington, DC, on August 29, 2014.
John Barbagallo,
Director, Flight Standards Service.

[FR Doc. 2014-21094 Filed 9-4-14; 8:45 am]

BILLING CODE 4910-13-P